DEPARTMENT OF THE TREASURY

[Treasury Order Number 101-05]

Reporting Relationships and Supervision of Officials, Offices and Bureaus, and Delegation of Certain Authority in the Department of the Treasury

By virtue of the authority vested in the Secretary of the Treasury, it is ordered that:

1. The Deputy Secretary shall report directly to the Secretary.

2. The Chief of Staff shall report directly to the Secretary and shall exercise supervision over the Director, Secretary's Scheduling Office, and the Executive Secretary.

3. The Executive Secretary shall report directly to the Chief of Staff and shall exercise supervision over the functions of the Executive Secretariat Correspondence Unit; the Office of Public Correspondence; and, for purposes of administrative and managerial control, over the Special Assistant to the Secretary (National Security). The Special Assistant to the Secretary (National Security) shall report to the Secretary and the Deputy Secretary.

4. The following officials shall report through the Deputy Secretary to the Secretary and shall exercise supervision over those officers and organizational entities set forth on the attached organizational chart:

Under Secretary (International Affairs)

Under Secretary (Domestic Finance)

Under Secretary (Enforcement)

General Counsel

Treasurer of the United States

Assistant Secretary (Legislative Affairs)

Assistant Secretary (Public Affairs)

Assistant Secretary (Economic Policy)

Assistant Secretary (Tax Policy)

Assistant Secretary (Management) and Chief Financial Officer

Commissioner of Internal Revenue

Comptroller of the Currency

Director, Office of Thrift Supervision

Director, Bureau of Engraving and Printing

Director, United States Mint

5. The Inspector General and the Treasury Inspector General for Tax Administration shall report to and be under the general supervision of the Secretary and the Deputy Secretary.

6. The Assistant Secretary (Management) also holds the office of the Department's Chief Financial Officer established pursuant to Chapter 9, Title 31, U.S.C., and serves as the Department's Chief Operating Officer for purposes of the Presidential Memorandum, “Implementing Government Reform”, dated July 11, 2001.

7. The Deputy Assistant Secretary (Information Systems), reporting to the Assistant Secretary for Management and Chief Financial Officer, is designated as the Department's Chief Information Officer pursuant to Division E of the Clinger-Cohen Act of 1996, and E.O. 13011, dated July 16, 1996, and shall have direct access to the Secretary to the extent required by that Act and related statutes.

8. The Deputy Secretary is authorized, in that official's own capacity and that official's own title, to perform any functions the Secretary is authorized to perform and shall be responsible for referring to the Secretary any matter on which action would appropriately be taken by the Secretary. Any action heretofore taken by the Deputy Secretary in that official's own title is hereby affirmed and ratified as the action of the Secretary.

9. The Under Secretaries, the General Counsel, the Assistant Secretaries, and the Treasurer of the United States are authorized to perform any functions the Secretary is authorized to perform. Each of these officials will ordinarily perform under this authority only those functions that arise out of, relate to, or concern the activities or functions of, or the laws administered by or relating to, the bureaus, offices, or other organizational units over which the incumbent has supervision. Each of these officials shall perform under this authority in the official's own capacity and the official's own title and shall be responsible for referring to the Secretary any matter on which action would appropriately be taken by the Secretary. Any action heretofore taken by any of these officials in that official's own title is hereby affirmed and ratified as the action of the Secretary.

10. The Deputy Secretary shall carry out the duties and powers of the Secretary when the Secretary is absent or unable to serve, or when the office of the Secretary is vacant.

11. During any period when both the Secretary and the Deputy Secretary have died, resigned, or are otherwise unable to perform the functions and duties of the office of the Secretary of the Treasury, those officials designated by the President pursuant to Executive Order 13246, dated December 18, 2001, as amended by Executive Order 13261, dated March 19, 2002, or otherwise designated pursuant to law, shall act as and perform the functions and duties of the office of the Secretary.

12. Authorities.

a. 31 U.S.C. 301 and 321(b); and

b. Executive Order 13246, dated December 18, 2001, as amended by Executive Order 13261, dated March 19, 2002.

13. Cancellation. Treasury Order 101-05, “Reporting Relationships and Supervision of Officials, Offices and Bureaus, Delegation of Certain Authority, and Order of Succession in the Department of the Treasury,” dated January 7, 1999, is superseded.

14. Office of Primary Interest. Deputy Assistant Secretary (Human Resources).

Paul H. O'Neill,
Secretary of the Treasury.

BILLING CODE 4810-25-P

[FR Doc. 02-16405 Filed 6-28-02; 8:45 am]

BILLING CODE 4810-25-C